DEPARTMENT OF TRANSPORTATION

Federal Aviation Administration

14 CFR Part 39

[Docket No. FAA-2009-0502; Directorate Identifier 2009-NE-02-AD; Amendment 39-16273; AD 2010-09-08]

RIN 2120-AA64

Airworthiness Directives; General Electric Company (GE) CJ610 Series Turbojet Engines and CF700 Series Turbofan Engines

AGENCY: Federal Aviation Administration (FAA), DOT.

ACTION: Final rule.

SUMMARY: The FAA is adopting a new airworthiness directive (AD) for GE CJ610 series turbojet engines and CF700 turbofan engines with AFT Technologies combustion liners, part number (P/N) AFT-5016T30G02. This AD requires removing from service, AFT Technologies combustion liners, P/N AFT-5016T30G02. This AD results from a report of an AFT Technologies combustion liner that released a large section of the inner combustion liner and reports of six combustion liners with premature cracks. We are issuing this AD to prevent premature cracks in the combustion liner, which could release pieces of the inner combustion liner. A release of pieces of the inner combustion liner could cause an uncontained failure of the engine turbine and damage to the airplane.

DATES: This AD becomes effective May 28, 2010.

ADDRESSES: The Docket Operations office is located at Docket Management Facility, U.S. Department of Transportation, 1200 New Jersey Avenue SE., West Building Ground Floor, Room W12-140, Washington, DC 20590-0001.

FOR FURTHER INFORMATION CONTACT: Norman Perenson, Aerospace Engineer, New York Aircraft Certification Office, FAA, Engine & Propeller Directorate, 1600 Stewart Avenue, Suite 410, Westbury, NY 11590; e-mail: norman.perenson@faa.gov; telephone (516) 228-7337; fax (516) 794-5531.

SUPPLEMENTARY INFORMATION: The FAA proposed to amend 14 CFR part 39 with a proposed AD. The proposed AD applies to GE CJ610 series turbojet engines and CF700 turbofan engines with AFT Technologies combustion liners, P/N AFT-5016T30G02 installed. We published the proposed AD in the Federal Register on September 9, 2009 (74 FR 46395). That action proposed to require replacing combustion liners, P/N AFT-5016T30G02:

• Before they accumulate 200 hours-since-new (HSN) or 300 cycles-since-new (CSN), or

• Within 15 hours-in-service or 10 cycles-in-service, after the effective date of this AD, whichever occurs first, if the combustion liner has already exceeded 200 HSN or 300 CSN.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We have considered the comments received.

Agrees With the Proposed AD

One commenter agrees with the AD.

Request To Replace “* * * Other Products of the Same Type Design”

One commenter, AFT Technologies, asks us to replace “* * * other products of the same type design” with “* * * other products of the same manufacture.” The commenter feels “The A.D. inadvertently suggests that despite PMA approval to manufacture the subject part, it's failure or potential for failure is the result of a design defect, as opposed to an equally possible manufacturing or assembly defect.” And that the AD requires clarification.

We do not agree that there is any need to distinguish between design and manufacture in the AD. The regulation that controls type design, 14 CFR part 21.31, defines type design as design and manufacture. In addition, we didn't make any conclusion as to the cause of the excessive cracking. Determination of the cracking is the responsibility of the PMA holder. As stated in the discussion of the proposed rule, “The PMA holder has not been able to determine the cause of the premature combustion liner failure.” Also, the statement “* * * other products of the same type design” appears only in the NPRM preamble section “FAA's Determination and Requirements of the Proposed AD.” That preamble section is not part of the final rule. We didn't change the AD.

Conclusion

We have carefully reviewed the available data, including the comment[s] received, and determined that air safety and the public interest require adopting the AD as proposed.

Costs of Compliance

We estimate that this AD affects 13 engines installed on airplanes of U.S. registry. We also estimate that it will take about 96 work-hours per engine to perform the required actions, and that the average labor rate is $80 per work-hour. Required parts will cost about $7,000 per engine. Based on these figures, we estimate the total cost of the AD to U.S. operators to be $190,840.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2010-09-08 General Electric Company (GE): Amendment 39-16273. Docket No. FAA-2009-0502; Directorate Identifier 2009-NE-02-AD.

Effective Date

(a) This airworthiness directive (AD) becomes effective May 28, 2010.

Affected ADs

(b) None.

Applicability

(c) This AD applies to GE CJ610 series turbojet and CF700 series turbofan engines with AFT Technologies combustion liner, part number (P/N) AFT-5016T30G02, installed. These engines are installed on, but not limited to, Learjet Inc. model 24 series and model 25 series airplanes, Dassault Aviation Fan Jet Falcon series airplanes, and Sabreliner Corporation NA-265-70 and NA-265-80 series airplanes.

Unsafe Condition

(d) This AD results from a report of an AFT Technologies combustion liner that released a large section of the inner combustion liner and reports of six combustion liners with premature cracks. We are issuing this AD to prevent premature cracks in the combustion liner, which could release pieces of the inner combustion liner. A release of pieces of the inner combustion liner could cause an uncontained failure of the engine turbine and damage to the airplane.

Compliance

(e) You are responsible for having the actions required by this AD performed within the compliance times specified unless the actions have already been done.

Replacement of AFT Technologies Combustion Liner P/N AFT-5016T30G02

(f) For engines that have an AFT Technologies combustion liner, P/N AFT-5016T30G02, with fewer than 200 hours-since-new (HSN) or 300 cycles-since-new (CSN), remove the AFT Technologies combustion liner, P/N AFT-5016T30G02, before exceeding 200 HSN or 300 CSN, whichever occurs first.

(g) For engines that have an AFT Technologies combustion liner, P/N AFT-5016T30G02, with 200 HSN or more or 300 CSN or more, remove the AFT Technologies combustion liner, P/N AFT-5016T30G02, within 15 hours-in-service or 10 cycles-in-service, after the effective date of this AD, whichever occurs first.

(h) After the effective date of this AD, don't install any AFT Technologies combustion liner, P/N AFT-5016T30G02, in any engine.

Alternative Methods of Compliance

(i) The Manager, New York Aircraft Certification Office, has the authority to approve alternative methods of compliance for this AD if requested using the procedures found in 14 CFR 39.19.

Related Information

(j) Contact Norman Perenson, Aerospace Engineer, New York Aircraft Certification Office, FAA, Engine & Propeller Directorate, 1600 Stewart Avenue, Suite 410, Westbury, NY 11590; e-mail: norman.perenson@faa.gov; telephone (516) 228-7337; fax (516) 794-5531, for more information about this AD.

Material Incorporated by Reference

(k) None.

Issued in Burlington, Massachusetts, on April 19, 2010.
Peter A. White,
Assistant Manager, Engine and Propeller Directorate, Aircraft Certification Service.

[FR Doc. 2010-9376 Filed 4-22-10; 8:45 am]

BILLING CODE 4910-13-P